DEPARTMENT OF THE INTERIOR

National Park Service

[NPS-WRST-LKCL-34740; PPAKAKROR4; PPMPRLE1Y.LS0000; 233P103601]

National Park Service Alaska Region Subsistence Resource Commission Program; Notice of Public Meetings

AGENCY: National Park Service, Interior.

ACTION: Meeting notice.

SUMMARY: The National Park Service (NPS) is hereby giving notice that the Lake Clark National Park SRC will meet as indicated below.

DATES: The Lake Clark National Park SRC will meet via teleconference from 11:30 a.m. to 12:30 p.m. or until business is completed on Wednesday, January 25, 2023. Teleconference participants must call 1-866-765-8024 participant code 4634519#.

FOR FURTHER INFORMATION CONTACT: For more detailed information regarding the Lake Clark SRC meeting or if you are interested in applying for membership, contact Designated Federal Officer Susanne Green, Superintendent, at (907) 644-3627 or via email at susanne_green@nps.gov, or Liza Rupp, Subsistence Manager, at (907) 644-3648 or via email at elizabeth_rupp@nps.gov, or Eva Patton, Federal Advisory Committee Group Federal Officer, at (907) 644-3601 or via email at eva_patton@nps.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The NPS is holding meetings pursuant to the Federal Advisory Committee Act (5 U.S.C. appendix 2). The NPS SRC program is authorized under title VIII, section 808 of the Alaska National Interest Lands Conservation Act (16 U.S.C. 3118).

SRC meetings are open to the public and will have time allocated for public testimony. The public is welcome to present written or oral comments to the SRC. SRC meetings will be recorded and meeting minutes will be available upon request from the Superintendent for public inspection approximately six weeks after the meeting.

Purpose of the Meeting: The agenda may change to accommodate SRC business. The proposed meeting agenda for the meeting includes the following:

1. Call to Order—Confirm Quorum

2. Welcome and Introduction

3. Review and Adoption of Agenda

4. Superintendent's Welcome and Review of the SRC Purpose

5. Old Business—resume work not finished at the fall 2022 SRC meeting regarding information on the harvest of wildlife for sport purposes in National Preserves

6. Public and Other Agency Comments

7. Adjourn Meeting

Meeting Accessibility: Please make requests in advance for sign language interpreter services, assistive listening devices, or other reasonable accommodations. We ask that you contact the persons listed in the (FOR FURTHER INFORMATION CONTACT) section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. appendix 2.

Alma Ripps,
Chief, Office of Policy.

[FR Doc. 2023-00363 Filed 1-10-23; 8:45 am]

BILLING CODE 4312-52-P